DEPARTMENT OF ENERGY

Federal Energy Regulatory Commission

Combined Notice of Filings

Take notice that the Commission has received the following Natural Gas Pipeline Rate and Refund Report filings:

Filings Instituting Proceedings

Docket Numbers: RP15-1083-000.

Applicants: Gulf South Pipeline Company, LP.

Description: Section 4(d) Rate Filing: Amendment to Neg Rate Agmt (Petrohawk 41455-26) to be effective 6/26/2015.

Filed Date: 6/26/15.

Accession Number: 20150626-5175.

Comments Due: 5 p.m. ET 7/8/15.

Docket Numbers: RP15-1084-000.

Applicants: Alliance Pipeline L.P.

Description: Section 4(d) Rate Filing: July 1-31 2015 Auction to be effective 7/1/2015.

Filed Date: 6/26/15.

Accession Number: 20150626-5189.

Comments Due: 5 p.m. ET 7/8/15.

Docket Numbers: RP15-1085-000.

Applicants: Tallgrass Interstate Gas Transmission, L.

Description: Section 4(d) Rate Filing: Neg Rate 2015/6/26 Housekeeping Filing to be effective 6/27/2015.

Filed Date: 6/26/15.

Accession Number: 20150626-5214.

Comments Due: 5 p.m. ET 7/8/15.

Docket Numbers: RP15-1086-000.

Applicants: Southeast Supply Header, LLC.

Description: Section 4(d) Rate Filing: Moving Negotiated Rates to be effective 8/1/2015.

Filed Date: 6/29/15.

Accession Number: 20150629-5127.

Comments Due: 5 p.m. ET 7/13/15.

Docket Numbers: RP15-1087-000.

Applicants: Texas Eastern Transmission, LP.

Description: Section 4(d) Rate Filing: U2GC FT-1 8-1-2015 Non-conforming Agreements to be effective 8/1/2015.

Filed Date: 6/29/15.

Accession Number: 20150629-5231.

Comments Due: 5 p.m. ET 7/13/15.

Docket Numbers: RP15-1088-000.

Applicants: El Paso Natural Gas Company, L.L.C.

Description: Section 4(d) Rate Filing: Negotiated Rate Agreement Update (APS July 2015) to be effective 7/1/2015.

Filed Date: 6/29/15.

Accession Number: 20150629-5243.

Comments Due: 5 p.m. ET 7/13/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 30, 2015.
Nathaniel J. Davis, Sr.,
Deputy Secretary.

[FR Doc. 2015-16609 Filed 7-6-15; 8:45 am]

BILLING CODE 6717-01-P